ENVIRONMENTAL PROTECTION AGENCY

40 CFR Part 52

[EPA-R04-OAR-2022-0630; FRL-11582-02-R4]

Air Plan Approval; Georgia; Vehicle Inspection and Maintenance Program

AGENCY: Environmental Protection Agency (EPA).

ACTION: Final rule.

SUMMARY: The Environmental Protection Agency (EPA) is approving changes to Georgia's State Implementation Plan (SIP) submitted by the State of Georgia through the Georgia Department of Natural Resources (GA DNR), Environmental Protection Division (EPD), on June 8, 2022, and on June 6, 2023. Georgia's June 8, 2022, SIP revision (hereinafter referred to as Georgia's 2022 I/M SIP revision) removes obsolete references and provisions; updates the State's inspection and maintenance (I/M) requirements; updates terminology, in part to reflect advances in test and vehicle technology; and makes other minor changes. The June 6, 2023, SIP revision (hereinafter referred to as Georgia's 2023 I/M SIP revision) removes outdated terminology; updates with new terminology; removes one requirement; and makes other minor changes to Georgia's enhanced I/M program. EPA is approving these changes pursuant to the Clean Air Act (CAA or Act).

DATES: This rule is effective March 11, 2024.

ADDRESSES: EPA has established a docket for this action under Docket Identification No. EPA-R04-OAR-2022-0630. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that you contact the person listed in the FOR FURTHER INFORMATION CONTACT section to schedule your inspection. The Regional Office's official hours of business are Monday through Friday 8:30 a.m. to 4:30 p.m., excluding Federal holidays.

FOR FURTHER INFORMATION CONTACT: Weston Freund, Air Regulatory Management Section, Air Planning and Implementation Branch, Air and Radiation Division, Region 4, U.S. Environmental Protection Agency, 61 Forsyth Street SW, Atlanta, Georgia 30303-8960. The telephone number is (404) 562-8773. Mr. Freund can also be reached via electronic mail at freund.weston@epa.gov.

SUPPLEMENTARY INFORMATION:

I. Background

In 1991, EPA classified a 13-county area in and around the Atlanta, Georgia, metropolitan area as a serious ozone nonattainment area for the 1979 1-hour ozone national ambient air quality standards (NAAQS or standard), triggering the requirement for the State to establish an enhanced I/M program for the area.¹ In 1996, Georgia submitted its enhanced I/M program to EPA for incorporation into the SIP. EPA granted interim approval of the State's program in 1997 and full approval in 2000. See 62 FR 42916 (August 11, 1997) and 65 FR 4133 (January 26, 2000), respectively.

¹ On November 6, 1991, EPA designated and classified the following counties in and around the Atlanta, Georgia, metropolitan area as a serious ozone nonattainment area for the 1-hour ozone NAAQS: Cherokee, Clayton, Cobb, Coweta, DeKalb, Douglas, Fayette, Forsyth, Fulton, Gwinnett, Henry, Paulding, and Rockdale. See 56 FR 56694.

On June 8, 2022, and June 6, 2023, Georgia submitted SIP revisions seeking to amend various I/M regulations in Chapter 391-3-20—Enhanced Inspection and Maintenance, of Georgia's SIP. In this rulemaking, EPA is approving changes to Rules 391-3-20-.01—Definitions; Rule 391-3-20-.03, Covered Vehicles; Exemptions; Rule 391-3-20-.04—Emission Inspection Procedures; Rule 391-3-20-.05—Emission Standards; Rule 391-3-20-.09—Inspection Station Requirements; Rule 391-3-20-.10—Certificates of Authorization; Rule 391-3-20-.11—Inspector Qualifications and Certification; Rule 391-3-20-.13—Certificate of Emission Inspection; Rule 391-3-20-.15—Repairs and Retests; Rule 391-3-20-.17—Waivers; and Rule 391-3-20-.22—Enforcement. EPA is approving these revisions because these changes will not interfere with any applicable requirement concerning attainment and reasonable further progress, or any other applicable CAA requirement.²

² See CAA section 110(l).

In a notice of proposed rulemaking (NPRM), published on December 21, 2023 (88 FR 88310), EPA proposed to approve the June 8, 2022, and June 6, 2023, SIP submissions. The details of Georgia's submissions, which remove obsolete references and provisions; update the State's I/M requirements; update and remove outdated terminology; remove a requirement; and makes other minor changes to Georgia's enhanced I/M program of the Georgia SIP, as well as EPA's rationale for approve the changes, are described in the December 21, 2023, NPRM. Comments on the December 21, 2023, NPRM were due on or before January 22, 2024. No comments were received on the NPRM, adverse or otherwise.

II. Incorporation by Reference

In this document, EPA is finalizing regulatory text that includes incorporation by reference. In accordance with requirements of 1 CFR 51.5, and as discussed in Section I of this preamble, EPA is finalizing the incorporation by reference of Georgia Rule 391-3-20-.09—Inspection Station Requirements; Rule 391-3-20-.10—Certificates of Authorization; Rule 391-3-20-.13—Certificate of Emission Inspection; Rule 391-3-20-.15—Repairs and Retests; Rule 391-3-20-.17—Waivers; and Rule 391-3-20-.22—Enforcement, all of which have a state-effective date of April 19, 2022, into the Georgia SIP. Further, EPA is finalizing the incorporation by reference of Georgia Rule 391-3-20-.01—Definitions; Rule 391-3-20-.03, Covered Vehicles; Exemptions; Rule 391-3-20-.04—Emission Inspection Procedures; Rule 391-3-20-.05—Emission Standards, and Rule 391-3-20-.11—Inspector Qualifications and Certification, all of which have a state-effective date of March 21, 2023, into the Georgia SIP. EPA has made, and will continue to make, these materials generally available through www.regulations.gov and at the EPA Region 4 Office (please contact the person identified in the “For Further Information Contact” section of this preamble for more information). Therefore, the revised materials as stated above, have been approved by EPA for inclusion in the State implementation plan, have been incorporated by reference by EPA into that plan, are fully federally enforceable under sections 110 and 113 of the CAA as of the effective date of the final rulemaking of EPA's approval, and will be incorporated by reference in the next update to the SIP compilation.³

³ 62 FR 27968 (May 22, 1997).

III. Final Actions

EPA is approving the aforementioned changes to various I/M regulations in Chapter 391-3-20—Enhanced Inspection and Maintenance, of the Georgia SIP. Specifically, EPA is finalizing the approval of the June 8, 2022, and June 6, 2023, SIP revisions which amends Georgia Rules 391-3-20-.01—Definitions; Rule 391-3-20-.03, Covered Vehicles; Exemptions; Rule 391-3-20-.04—Emission Inspection Procedures; Rule 391-3-20-.05—Emission Standards; Rule 391-3-20-.09—Inspection Station Requirements; Rule 391-3-20-.10—Certificates of Authorization; Rule 391-3-20-.11—Inspector Qualifications and Certification; Rule 391-3-20-.13—Certificate of Emission Inspection; Rule 391-3-20-.15—Repairs and Retests; Rule 391-3-20-.17—Waivers; and Rule 391-3-20-.22—Enforcement.

VI. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, these actions merely approve state law as meeting Federal requirements and do not impose additional requirements beyond those imposed by state law. For that reason, these actions:

• Are not significant regulatory actions subject to review by the Office of Management and Budget under Executive Orders 12866 (58 FR 51735, October 4, 1993) and 14094 (88 FR 21879, April 11, 2023);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have federalism implications as specified in Executive Order 13132 (64 FR 43255, August 10, 1999);

• Are not subject to Executive Order 13045 (62 FR 19885, April 23, 1997) because they approve a state program;

• Are not significant regulatory actions subject to Executive Order 13211 (66 FR 28355, May 22, 2001); and

• Are not subject to requirements of Section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

Executive Order 12898 (Federal Actions to Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

EPD did not evaluate EJ considerations as part of its SIP submittals; the CAA and applicable implementing regulations neither prohibit nor require such an evaluation. EPA did not perform an EJ analysis and did not consider EJ in these actions. Due to the nature of the actions being taken here, these actions are expected to have a neutral to positive impact on the air quality of the affected area. Consideration of EJ is not required as part of these actions, and there is no information in the record inconsistent with the stated goal of E.O. 12898 of achieving EJ for people of color, low-income populations, and Indigenous peoples.

These actions are subject to the Congressional Review Act, and EPA will submit a rule report to each House of the Congress and to the Comptroller General of the United States. These actions are not a “major rule” as defined by 5 U.S.C. 804(2).

Under section 307(b)(1) of the Clean Air Act, petitions for judicial review of these actions must be filed in the United States Court of Appeals for the appropriate circuit by April 9, 2024. Filing a petition for reconsideration by the Administrator of this final rule does not affect the finality of these actions for the purposes of judicial review nor does it extend the time within which a petition for judicial review may be filed and shall not postpone the effectiveness of such rule or action. These actions may not be challenged later in proceedings to enforce its requirements. (See section 307(b)(2).)

List of Subjects in 40 CFR Part 52

Environmental protection, Air pollution control, Carbon monoxide, Incorporation by reference, Nitrogen dioxide, Ozone, Particulate matter, Reporting and recordkeeping requirements, Sulfur oxides, Volatile organic compounds.

Dated: February 2, 2024.
Jeaneanne Gettle,
Acting Regional Administrator, Region 4.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart L—Georgia

2. In § 52.570(c), amend Table (1) by revising the entries for “Rule 391-3-20-.01,” “Rule 391-3-20-.03,” “Rule 391-3-20-.04,” “Rule 391-3-20-.05,” “Rule 391-3-20-.09,” “Rule 391-3-20-.10,” “Rule 391-3-20-.11,” “Rule 391-3-20-.13,” “Rule 391-3-20-.15,” “Rule 391-3-20-.17,” and “Rule 391-3-20-.22.”

The amendments read as follows:

§ 52.570 Identification of plan.

* * * * *

(c) * * *

Table 1 to Paragraph (c)—EPA-Approved Georgia Regulations
State citation | Title/subject | State effective date | EPA approval date | Explanation
* * * * * * *
391-3-20 | Enhanced Inspection and Maintenance
391-3-20-.01 | Definitions | 3/21/2023 | 2/9/2024, [Insert citation of publication] |
* * * * * * *
391-3-20-.03 | Covered Vehicles; Exemptions | 3/21/2023 | 2/9/2024, [Insert citation of publication] |
391-3-20-.04 | Emission Inspection Procedures | 3/21/2023 | 2/9/2024, [Insert citation of publication] |
391-3-20-.05 | Emission Standards | 3/21/2023 | 2/9/2024, [Insert citation of publication] |
* * * * * * *
391-3-20-.09 | Inspection Station Requirements | 4/19/2022 | 2/9/2024, [Insert citation of publication] |
391-3-20-.10 | Certificates of Authorization | 4/19/2022 | 2/9/2024, [Insert citation of publication] |
391-3-20-.11 | Inspector Qualifications and Certification | 3/21/2023 | 2/9/2024, [Insert citation of publication] |
* * * * * * *
391-3-20-.13 | Certificate of Emission Inspection | 4/19/2022 | 2/9/2024, [Insert citation of publication] |
391-3-20-.15 | Repairs and Retests | 4/19/2022 | 2/9/2024, [Insert citation of publication] |
* * * * * * *
391-3-20-.17 | Waivers | 4/19/2022 | 2/9/2024, [Insert citation of publication] |
* * * * * * *
391-3-20-.22 | Enforcement | 4/19/2022 | 2/9/2024, [Insert citation of publication] |

* * * * *

[FR Doc. 2024-02521 Filed 2-8-24; 8:45 am]

BILLING CODE 6560-50-P